DEPARTMENT OF THE TREASURY

Office of Foreign Assets Control

Unblocking of 1 Individual Designated Pursuant to Executive Order 13572

AGENCY: Office of Foreign Assets Control, Treasury.

ACTION: Notice.

SUMMARY: The Treasury Department's Office of Foreign Assets Control (“OFAC”) is removing the name of 1 individual whose property and interests in property are blocked pursuant to Executive Order 13572 of April 29, 2011, “Blocking Property of Certain Persons with Respect to Human Rights Abuses in Syria” from the list of Specially Designated Nationals and Blocked Persons (“SDN List”).

DATES: The removal of this individual from the SDN List is effective as of Thursday, April 18, 2013.

FOR FURTHER INFORMATION CONTACT: Assistant Director, Compliance Outreach & Implementation, Office of Foreign Assets Control, Department of the Treasury, 1500 Pennsylvania Avenue NW. (Treasury Annex), Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On April 29, 2011, the President issued Executive Order 13572, “Blocking Property of Certain Persons with Respect to Human Rights Abuses in Syria,” (the “Order”) pursuant to, inter alia, the International Emergency Economic Powers Act (50 U.S.C. 1701-06). In the Order, the President expanded the scope of the national emergency declared in Executive Order 13338 of May 11, 2004. The Order authorizes the Secretary of the Treasury, in consultation with the Secretary of State, to designate additional persons or entities determined to meet certain criteria set forth in Executive Order 13572.

The Department of the Treasury's Office of Foreign Assets Control has determined that this individual should be removed from the SDN List.

The following designation is removed from the SDN List:

Individual

AL-KUZBARI, Nabil Rafik (a.k.a. AL-KOUZBARI, Nabil; a.k.a. AL-KUZBARI, Nabil; a.k.a. AL-KUZBARI, Nabil Rafiq; a.k.a. KUSBARI, Nabil; a.k.a. KUZBARI, Ahmad; a.k.a. KUZBARI, Ahmad Nabil; a.k.a. KUZBARI, Nabil R.); DOB 20 Sep 1936; POB Damascus, Syria; citizen Syria; alt. citizen Austria; Passport P3002721 (Austria) (individual) [SYRIA].

The removal of this individual from the SDN List is effective as of Thursday, April 18, 2013. All property and interests in property of the individual that are in or hereafter come within the United States or the possession or control of United States persons are now blocked.

Dated: Thursday, April 18, 2013.
Adam Szubin,
Director, Office of Foreign Assets Control.

[FR Doc. 2013-09793 Filed 4-24-13; 8:45 am]

BILLING CODE 4810-AL-P